DEPARTMENT OF JUSTICE

Antitrust Division

Notice Pursuant to the National Cooperative Research and Production Act of 1993—GE Global Research

Notice is hereby given that, on November 7, 2002, pursuant to section 6(a) of the National Cooperative Research and Production Act of 1993, 15 U.S.C. 4301 et seq. (“the Act”), GE Global Research has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are GE Global Research, Niskayuna, NY; and Molecular Nanosystems, Palo Alto, CA. The nature and objectives of the ventures are to develop and demonstrate “Template Synthesis for Nanostructured Materials.”

Constance K. Robinson,
Director of Operations, Antitrust Division.

[FR Doc. 02-32055 Filed 12-19-02; 8:45 am]

BILLING CODE 4410-11-M